DEPARTMENT OF HEALTH AND HUMAN SERVICES

National Institutes of Health

Notice of Meeting: Secretary's Advisory Committee on Genetics, Health, and Society

Pursuant to Public Law 92-463, notice is hereby given of the tenth meeting of the Secretary's Advisory Committee on Genetics, Health, and Society (SACGHS), U.S. Public Health Service. The meeting will be held from 8:30 a.m. to approximately 5 p.m. on Monday, June 26, 2006 and 8:30 a.m. to approximately 5 p.m. on Tuesday, June 27, 2006, at the National Institutes of Health, Building 31, C Wing, Conference Room 6, 31 Center Drive, Bethesda, MD 20892. The meeting will be open to the public with attendance limited to space available. The meeting also will be Webcast.

The first day of the meeting will include a review of the Committee's draft report and recommendations on pharmacogenomics, and a briefing on FDA's Critical Path Initiative. The Committee will also hear from the Centers for Medicare & Medicaid Services ont he status of a proposal to add a genetics specialty to the regulations implementing the Clinical Laboratory Improvement Act Amendments. In addition, the Committee will discuss the status of its solicitation of public comments on the Committee's draft report “Policy Issues Associated with Undertaking a Large U.S. Population Cohort Project on Genes, Environment, and Disease” (posted at http://www4.od.nih.gov/oba/sacghs/public_comments.htm).

Issues to be discussed on the second day will include several presentations intended to provide the Committee with a better understanding of the impact of gene patents and licensing practices on access to genetic tests and services as well as deliberations about the Committee's next steps on this issue. The Committee will also be updated about the status of Federal genetic non-discrimination legislation and the work of the two interagency work groups monitoring claims made by companies advertising genetic tests on the Internet and evaluating the public health impact of DTC marketing of genetic tests.

Time will be provided each day for public comments. The Committee would welcome hearing from anyone wishing to provide public comment on any issue related to genetics, health and society. Individuals who would like to provide public comment should notify the SACGHS Executive Secretary, Ms. Sarah Carr, by telephone at 301-496-9838 or E-mail at sc112c@nih.gov. The SACGHS office is located at 6705 Rockledge Drive, Suite 750, Bethesda, MD 20892. Anyone planning to attend the meeting who is in need of special assistance, such as sign language interpretation or other reasonable accommodations, is also asked to contact the Executive Secretary.

Under authority of 42 U.S.C. 217a, section 222 of the Public Health Service Act, as amended, the Department of Health and Human Services established SACGHS to serve as a public forum for deliberations on the broad range of human health and societal issues raised by the development and use of genetic technologies and, as warranted, to provide advice on these issues. The draft meeting agenda and other information about SACGHS, including information about access to the Webcast, will be available at the following Web site: http://www4.od.nih.gov/oba/sacghs.htm.

Dated: May 15, 2006.
Anna Snouffer,
Acting Director, NIH Office of Federal Advisory Committee Policy.

[FR Doc. 06-4772 Filed 5-22-06; 8:45 am]

BILLING CODE 4140-01-M